NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites 1 public comments on such records schedules, as required by 44 U.S.C. 3303a(a).

DATES: Requests for copies must be received in writing on or before June 21, 2004. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Health and Human Services, Health Resources and Services Administration (N1-512-04-1, 5 items, 5 temporary items). Case files relating to applications for payment submitted to the Ricky Ray Hemophilia Relief Fund Program. Included are paper and electronic versions of such records as correspondence, affidavits, marriage licenses, birth certificates, and medical records. Data in an electronic tracking system is included as are electronic copies of records created using electronic mail and word processing.

2. Department of Justice, National Drug Intelligence Center (N1-523-04-1, 37 items, 32 temporary items). Records relating to such subjects as agency strategic plans and annual performance plans, staffing levels, budget matters, the preparation of studies, and assistance to other agencies. Also included are electronic copies of records created using electronic mail and word processing. Proposed for permanent retention are recordkeeping copies of such records as strategic plans, annual performance plans, approved copies of organizational charts, and published reports and studies.

3. Department of the Treasury, Bureau of Engraving and Printing (N1-318-04-21, 8 items, 8 temporary items). Records relating to public tours of agency facilities and educational campaigns. Included are such records as files relating to planning tours, electronic tracking systems used for scheduling tours, and materials prepared for public distribution concerning new currency designs. Also included are electronic copies of records created using electronic mail and word processing.

4. Department of Veterans Affairs, Veterans Health Administration (N1-15-02-3, 9 items, 9 temporary items). Electronic patient medical records, including electronic and non-electronic data input files, outputs, master files, back-up files, system documentation, and electronic copies of records created using electronic mail and word processing. Paper copies of these records were previously scheduled for disposal.

5. Commission to Assess the Threat to the United States from Electromagnetic Pulse Attack, Agency-wide (N1-220-04-1, 8 items, 3 temporary items). The Commission's internal web site, which consists of housekeeping records and copies of records available elsewhere. Also included are electronic copies of records created using electronic mail and word processing. Proposed for permanent retention are recordkeeping copies of such records as the Commission's final report and recommendations, research documents, briefing materials, meeting agendas, and staff papers.

6. National Archives and Records Administration, Government-wide (N1GRS-04-2, 6 items, 6 temporary items). Addition to General Records Schedule 1, Civilian Personnel Records, for records relating to reasonable accommodation requests under the Rehabilitation Act of 1973 and Executive Order 13164. Included are general files, case files, and tracking systems. Also included are electronic copies of records created using electronic mail and word processing.

7. Small Business Administration, Office of Financial Assistance (N1-309-04-6, 9 items, 9 temporary items). Inputs, outputs, master files, and documentation associated with the Risk Lender System, which is used to monitor lender performance in loan servicing. Also included are electronic copies of documents created using word processing and electronic mail.

8. White House Commission on the National Moment of Remembrance, Agency-wide (N1-220-04-3, 12 items, 7 temporary items). Commission member files consisting of nomination and appointment information, financial disclosure statements, and related records, public mail, working papers relating to reports and other projects, extra copies of publications, copies of procurement records, and records relating to the Commission's web site, including its contents. Also included are electronic copies of records created using electronic mail and word processing. Proposed for permanent retention are recordkeeping copies of such files as Commission correspondence, press releases, Commission meeting minutes and testimony, posters, flyers, and other educational materials, reports, and motion pictures.

Dated: May 3, 2004.
Michael J. Kurtz,
Assistant Archivist for Records Services—Washington, DC.

[FR Doc. 04-10449 Filed 5-6-04; 8:45 am]

BILLING CODE 7515-01-P